DEPARTMENT OF HEALTH AND HUMAN SERVICES

Office of Inspector General

Program Exclusions: June 2004

AGENCY: Office of Inspector General, HHS.

ACTION: Notice of program exclusions.

During the month of June 2004, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
Program-Related Convictions:
A Dental Center, P C—Southgate | W Bloomfield, MI | 7/20/2004
Abdi, Izhar | Brooklyn, NY | 7/20/2004
Aberdeen Ambulance Service, Inc | Aberdeen, SD | 8/16/1999
Alexander, Lora | Dayton, OH | 7/20/2004
Anderegg, Nicole | Chandler, AZ | 7/20/2004
Arreola, Stephanie | Buena Park, CA | 7/20/2004
Babcock, Robert | Lake Havasu, AZ | 3/24/2004
Baburov, Edward | Long Beach, CA | 7/20/2004
Bacca, Toni | Urbana, OH | 7/20/2004
Baker, Arlene | Scottsdale, AZ | 1/28/2004
Benisatto, Salvatore | Farmington Hills, MI | 7/20/2004
Birt, Angela | Inglewood, CA | 3/24/2004
Black, Jacqueline | Columbus, OH | 7/20/2004
Blankenship, Mary | Kendrick, ID | 7/20/2004
Bombalier, Lazaro | Miami, FL | 7/20/2004
Camey Arriaza, Ana | Compton, CA | 7/20/2004
Carmona, Sergio | Ft Myers, FL | 7/20/2004
Chandler, Bobbi | Columbus, OH | 7/20/2004
Chavez, Baudelio | Fallbrook, CA | 7/20/2004
Chavis, Shana | Whitehall, OH | 7/20/2004
Chavis, Sherri | Columbus, OH | 7/20/2004
Cohn, Frederick | Anthony, TX | 7/20/2004
Daniels, Juakita | Greenville, NC | 7/20/2004
Davis, Brenda | Utica, MS | 7/20/2004
Dilone, Guillermo | Elmhurst, NY | 7/20/2004
Eaton Manor Nursing Home | Charlotte, MI | 7/20/2004
Elasha, Rahamtalla | Elkton, OH | 7/20/2004
Gallego, Raynaldo | Culver City, CA | 7/20/2004
Garcia, Pablo | Hialeah, FL | 7/20/2004
Guevara, Saul | Cincinnati, OH | 7/20/2004
Hall, Carter | Rapid City, SD | 8/16/1999
Johnson, Warren | Laie, HI | 7/20/2004
Kovarskaya, Galina | New York, NY | 7/20/2004
Kusmierz, Therese | Albion, NY | 7/20/2004
Lassiter, Rhonda | Scotland Neck, NC | 7/20/2004
Latreille, Gerry | Mesa, AZ | 7/20/2004
Latscha, Lisa | Cincinnati, OH | 7/20/2004
Levine, Stewart | Huntingdon Valley, PA | 7/20/2004
Longazel, Mark | Cleveland, OH | 7/20/2004
Lopez, Bernabe | Petaluma, CA | 7/20/2004
Makseredzhyan, Hakop | Taft, CA | 7/20/2004
Mallett, Clinton | Milwaukee, WI | 7/20/2004
Martin, Cherol | Youngstown, OH | 7/20/2004
Modi, Rita | Powhatan, VA | 7/20/2004
Morales, Christine | Homestead, FL | 7/20/2004
Morales, Cristino | Bridgeton, NJ | 7/20/2004
Morales, Eduardo | Homestead, FL | 7/20/2004
Mote, Penny | Jacksonville, FL | 7/20/2004
Munoz, Ines | Santa Rosa, CA | 7/20/2004
Nuffer, David | Salt Lake City, UT | 7/20/2004
Odems, Mary | Rolling Fork, MS | 7/20/2004
Parikh, Manuprasad | Franklin Lakes, NJ | 7/20/2004
Paterson, Heidi | Lake Havasu City, AZ | 3/24/2004
Pina, Carmen | Fresno, CA | 7/20/2004
Pogosyan, Vardan | Long Beach, CA | 7/20/2004
Pugliese, William | Canyon Country, CA | 7/20/2004
Reyes Reymundo, Rosa | Upland, CA | 7/20/2004
Rivera, Claudia | Phoenix, AZ | 7/20/2004
Romano, Javier | Miami, FL | 7/20/2004
Rosen, Eric | Fairton, NJ | 7/20/2004
Schierholz, Genell | Carriere, MS | 7/20/2004
Sebastain, Mary | Los Angeles, CA | 7/20/2004
Terwedo, Randal | Shingle Springs, CA | 7/20/2004
Texiera, Patricia | Lowell, MA | 7/20/2004
Urgo, Joseph | Yonkers, NY | 7/20/2004
Vikramjit S Anand, DDS, PC | Ithaca, NY | 7/20/2004
Villarreal, Daniel | Los Angeles, CA | 7/20/2004
Walker, Wallace | Detroit, MI | 7/20/2004
Watkins, Becky | Carriere, MS | 7/20/2004
Wheat, Tanya | Columbus, OH | 7/20/2004
Xiques, Yenissel | Miami, FL | 7/20/2004
Xpress Ambulette Service, Inc | Mount Vernon, NY | 7/20/2004
Yahiayan, Krikor | Lompoc, CA | 7/20/2004
Yunatanov, Steve | Kew Gardens, NY | 7/20/2004
Zlotin, Igor | Flushing, NY | 7/20/2004
Felony Conviction for Health Care Fraud:
Behr, Kenneth | South Bend, IN | 7/20/2004
Cano, Juan | Commerce, CA | 7/20/2004
Couch, Joanne | Valparaiso, IN | 7/20/2004
Crooks, Michelle | Osage, WV | 7/20/2004
Fraire, Bobbie | Mesa, AZ | 7/20/2004
Howell, Bessie | Chicago, IL | 7/20/2004
Jones, John | Midland, MI | 7/20/2004
Koningh, John | Newport Beach, CA | 7/20/2004
La Gorce, Jean Marie | San Clamente, CA | 7/20/2004
Lam, Tony | Diamond Bar, CA | 7/20/2004
Workman, Petrinia | Tacoma, WA | 7/20/2004
Wylie, John | Malvern, PA | 7/20/2004
Felony Control Substance Conviction:
Ford, Sherry | Medford, OR | 7/20/2004
Fox, Robert | Seward, AK | 7/20/2004
Grimm, Kimberly | Stow, OH | 7/20/2004
Levitt, Gerald | Pittsburgh, PA | 7/20/2004
Nosal, Leonard | White Lake, MI | 7/20/2004
Ross, Josie | Hackensack, NJ | 7/20/2004
Ruth, Jerald | Graham, WA | 7/20/2004
Sherron, Laurie | Wilmington, NC | 7/20/2004
Worrell, Bruce | Cincinnati, OH | 7/20/2004
Patient Abuse/Neglect Convictions:
Brown-Stokes, Gladys | Milwaukee, WI | 7/20/2004
Colyer, Gerald | Salem, OR | 7/20/2004
Cue, Betty | Green Cove Springs, FL | 7/20/2004
Duncan, Dare | Marysville, OH | 7/20/2004
Fischer, Edwardo | Raiford, FL | 7/20/2004
Ho, Melvin | Wahiawa, HI | 7/20/2004
Isaac, Ashley | Darlington, SC | 7/20/2004
Jones, Tiletta | Cleveland, OH | 7/20/2004
Keith, Natasha | Columbus, OH | 7/20/2004
LaValley, Eric | Northwood, NH | 7/20/2004
Litton, Larry | Bristol, TN | 7/20/2004
Liviu, Stefan | Ontario, OR | 7/20/2004
Margiono, Budhi | Kirkland, WA | 7/20/2004
Mays-Cargo, Lizastarlene | Kapolei, HI | 7/20/2004
Nethercott, Christian | Portland, OR | 7/20/2004
Parks, George | Virginia, MN | 7/20/2004
Reed, Linda | Hodges, SC | 7/20/2004
Sabado, Remedios | Honolulu, HI | 7/20/2004
Tucker, Barbara | Idabel, OK | 7/20/2004
Utter, Michiko | Cedarville, CA | 7/20/2004
Conviction for Health Care Fraud:
Bond, Janet | Taylorsville, MS | 7/20/2004
Dempsey, Ruth | Tucson, AZ | 7/20/2004
Kelly, Felicia | Minneapolis, MN | 7/20/2004
Sixkiller, Linda | Oklahoma City, OK | 7/20/2004
Conviction-Obstruction of an Investigation:
Raynor, Rhett | Dunn, NC | 7/20/2004
Controlled Substance Convictions:
Hancock, John | Mooresburgh, TN | 7/20/2004
License Revocation/Suspension/Surrendered:
Adkins, Erik | Kent, WA | 7/20/2004
Agundez, Jakee | Henderson, NV | 7/20/2004
Allison, Jean | Tucson, AZ | 7/20/2004
Alvarez, Adrian | Corona, CA | 7/20/2004
American Horse, Caroline | Parker, AZ | 7/20/2004
Andrews, Lorenzo | Greenbelt, MD | 7/20/2004
Arora, Martha | Prospect, KY | 7/20/2004
Aubrey, Tondalaya | Long Beach, CA | 7/20/2004
Austin, Brandy | Terre Haute, IN | 7/20/2004
Austin, Pamela | Ben Lomond, CA | 7/20/2004
Baker, Jay | Virginia Beach, VA | 7/20/2004
Bank, John | Las Vegas, NV | 7/20/2004
Barratt, Elizabeth | Brooklyn, NY | 7/20/2004
Barrett, Kimberly | Hamilton, OH | 7/20/2004
Barrows, Barbara | Arlington, WA | 7/20/2004
Basil, Patricia | Bardstown, KY | 7/20/2004
Bautista, Candelario | Phoenix, AZ | 7/20/2004
Beach, Karen | Lancaster, PA | 7/20/2004
Bear, Nathan | Salunga, PA | 7/20/2004
Bedford, Christine | Clive, IA | 7/20/2004
Bello, Blasida | Boyes Hot Springs, CA | 7/20/2004
Beltran, Ricardo | Hacienda Heights, CA | 7/20/2004
Birdsong, Michael | Cordova, TN | 7/20/2004
Boucher, Victor | Scottsdale, AZ | 7/20/2004
Brady, Guy | Clearfield, UT | 7/20/2004
Broughton-Nagy, Michelle | Tucson, AZ | 7/20/2004
Brown, Arnette | Phoenix, AZ | 7/20/2004
Browne, Allen | Mesa, AZ | 7/20/2004
Buchfink, Kyle | Inola, OK | 7/20/2004
Buehrig, Jeanna | Wilmer, AL | 7/20/2004
Bunton, Angela | Hamptonville, NC | 7/20/2004
Burdette, Ross | Fayetteville, AR | 7/20/2004
Burger, Nancy | Pittsburgh, PA | 7/20/2004
Byerly, Judith | Erie, PA | 7/20/2004
Cabral, Alvaro | New Bedford, MA | 7/20/2004
Cantrell, Patricia | Mira Loma, CA | 7/20/2004
Cardenas, Debra | Indianapolis, IN | 7/20/2004
Carlisle, Patricia | Toledo, OH | 7/20/2004
Carnduff, Frank | Parker, CO | 7/20/2004
Clarke, Vivian | Seattle, WA | 7/20/2004
Claude, Danny | Parkhill, OK | 7/20/2004
Collins, Sheila | Malvern, AR | 7/20/2004
Couch, Scarlett | Weatherford, TX | 7/20/2004
Coughenour, Susan | Gallipolis, OH | 7/20/2004
Cox, Warren | Louisville, KY | 7/20/2004
Cronshaw, Stacy | Las Vegas, NV | 7/20/2004
Crosby, Donna | San Jose, CA | 7/20/2004
D'Aquino, Kristin | Moscow, ID | 7/20/2004
Davidson, Donald | Escondido, CA | 7/20/2004
Davis, Tracy | Brandenburg, KY | 7/20/2004
Degrace, Jeannette | Providence, RI | 7/20/2004
Digiovanni, Maria | Hamilton, OH | 7/20/2004
Dillard, Cynthia | Milton, FL | 7/20/2004
Dorf, Karen | Toledo, OH | 7/20/2004
Dotimas, Jonathan | San Diego, CA | 7/20/2004
Dougherty, Richard | Knoxville, TN | 7/20/2004
Dunton, Karen | Salisbury, NC | 7/20/2004
Durfee, Janet | Marlton, NJ | 7/20/2004
Durham, James | Atlanta, GA | 7/20/2004
Eccles, Suzanne | Salt Lake City, UT | 7/20/2004
Edwards, India | El Cajon, CA | 7/20/2004
Elias, Ruth | Tucson, AZ | 7/20/2004
English, Tametris | Bainbridge, GA | 7/20/2004
Englund, Philip | Mesa, AZ | 7/20/2004
Engstrom, Melody | Sisters, OR | 7/20/2004
Erickson, Donna | Gilbert, AZ | 7/20/2004
Fairbanks, Brenda | Marshalltown, IA | 7/20/2004
Faria, Jane W | W Palm Beach, FL | 7/20/2004
Ferguson, Cheryl | McKees Rocks, PA | 7/20/2004
Ferrel, Linda | Lake Stevens, WA | 7/20/2004
Figueroa, Maria | Compton, CA | 7/20/2004
Fikar, Barbara | Richmond Heights, OH | 7/20/2004
Fish, Robin | Hague, NY | 7/20/2004
Forrest, Tami | Oakland, CA | 7/20/2004
Freeman, Timothy | Huntington Beach, CA | 7/20/2004
Garner, Nancy | Jeffersonville, IN | 7/20/2004
Garrison, Jonnell | Lakeport, CA | 7/20/2004
George, Jody | Reading, PA | 7/20/2004
Goff, Wendy | Portland, NH | 7/20/2004
Gomany, Dale | Montgomery, AL | 7/20/2004
Griffin, Michael | Pittsburgh, PA | 7/20/2004
Grill, Elizabeth | N Las Vegas, NV | 7/20/2004
Gunkel, Lori | El Cajon, CA | 7/20/2004
Gustafson, Debra | Yuba City, CA | 7/20/2004
Guzman, Armie | Belmont, CA | 7/20/2004
Hall, Janeane | Painesville, OH | 7/20/2004
Hall, Linda | Phoenix, AZ | 7/20/2004
Hamilton, Dorothy | San Bernardino, CA | 7/20/2004
Hamilton, Nicole | Latrobe, PA | 7/20/2004
Hamson, Gail | Springfiield, PA | 7/20/2004
Hardy, Steven | Arlington, VA | 7/20/2004
Helms, Donald | Mesa, AZ | 7/20/2004
Hooks, Andrea | Spanaway, WA | 7/20/2004
Howell, Lillian | Alpine, UT | 7/20/2004
Hurt, Betty | Amory, MS | 7/20/2004
Jackson, Darlene | Portsmouth, OH | 7/20/2004
Jackson, Nancy | East Moline, IL | 7/20/2004
Jimenez, Alicia | Los Angeles, CA | 7/20/2004
Joehnk, Daniel | Port Orchard, WA | 7/20/2004
Johnson, Welburne | Cookeville, TN | 7/20/2004
Kessler, David | Scotts Dale, AZ | 7/20/2004
Kirk, Shannon | Peoria, AZ | 7/20/2004
Knapp, April | Phoenix, AZ | 7/20/2004
Knight, Robert | Naples, FL | 7/20/2004
Krause, Darla | Phoenix, AZ | 7/20/2004
Kueneman, Barbara | Phoenix, AZ | 7/20/2004
Lauren, Bella | Jupiter, FL | 7/20/2004
Layog, Joseph | Riverside, CA | 7/20/2004
Leclair, Lance | Davis, CA | 7/20/2004
Lee, Il | Anaheim, CA | 7/20/2004
Lopez, Carmen | Vista, CA | 7/20/2004
Lopez, Carol | Phoenix, AZ | 7/20/2004
Lovett, Ellen | Aberdeen, OH | 7/20/2004
Manning, Frances | Midwest City, OK | 7/20/2004
Manning, Gerald | Carthage, TN | 7/20/2004
Martinez, Sonia | Indio, CA | 7/20/2004
Mayes, Gwendolyn | Tucson, AZ | 7/20/2004
McCann, Becky | Bloomville, OH | 7/20/2004
McCullough, Joseph | Alta Monte Springs, FL | 7/20/2004
McDuffie, Raymond | Pikeville, TN | 7/20/2004
Meason, Kami | Springville, UT | 7/20/2004
Mendes, Kim | Greensboro, NC | 7/20/2004
Moctezuma, Carlos | Rosemead, CA | 7/20/2004
Moore, Sherrie | Litchfield, AZ | 7/20/2004
Moore, Theresa | Yakima, WA | 7/20/2004
Noey, Loretta | Victorville, CA | 7/20/2004
Nolden, Sandra | Santa Rosa, CA | 7/20/2004
Oliva, Renee | Chandler, AZ | 7/20/2004
Omega, Rommel | Modesto, CA | 7/20/2004
Padgett, Billy | Nacogdoches, TX | 7/20/2004
Parsa, Mehry | Woodland Hills, CA | 7/20/2004
Paternosto, Rachele | Ludlow, MA | 7/20/2004
Payne, Sharon | Cincinnati, OH | 7/20/2004
Peay, Kay | St George, UT | 7/20/2004
Phillips, Carolyn | Kokomo, IN | 7/20/2004
Pierce, Kathleen | Scottsdale, AZ | 7/20/2004
Pincsak, Stephen | Yuba City, CA | 7/20/2004
Proctor, Marcella | Payson, AZ | 7/20/2004
Ramirez, Noemi | Green Valley, AZ | 7/20/2004
Ray, Sharon | Springerville, AZ | 7/20/2004
Rist, James | San Francisco, CA | 7/20/2004
Roach, Mary | New Paris, IN | 7/20/2004
Robbins, Clinton | Homestead, FL | 7/20/2004
Rotella, Sam | Phoenix, AZ | 7/20/2004
Sammon, Karla | Pueblo West, CO | 7/20/2004
Samuel, Joanne | Shelton, WA | 7/20/2004
Sarabia, Elizabeth | Garden Grove, CA | 7/20/2004
Sauter, Lisa | Indianapolis, IN | 7/20/2004
Schmidgall, Mackenzie | Lynnwood, WA | 7/20/2004
Schmidt, Julia | Encinitas, CA | 7/20/2004
Schmit, Nancy | Phoenix, AZ | 7/20/2004
Shoemaker, Elaine | Denver, CO | 7/20/2004
Shondee, Patrick | Phoenix, AZ | 7/20/2004
Simpson, Amy | Madison, IN | 7/20/2004
Skaggs, Karlene | Indianapolis, IN | 7/20/2004
Smith, Jason | Seattle, WA | 7/20/2004
Starkey, Mashana | Long Beach, CA | 7/20/2004
Switzer, Daniel | Woonsocket, RI | 7/20/2004
Sykes, Joanna | Mullens, WV | 7/20/2004
Taylor, Michael | Chino Valley, AZ | 7/20/2004
Thornburg, Peggy | Yuma, AZ | 7/20/2004
Topai, Michael | Fruita, CO | 7/20/2004
Torres, Edgardo | San Diego, CA | 7/20/2004
Tuliau, Christopher | Long Beach, CA | 7/20/2004
Tuthill, Beth | Everett, WA | 7/20/2004
Vaccaro, Lynne | Tomah, WI | 7/20/2004
Vegas, Marcy | Pueblo, CO | 7/20/2004
Venable, Mary | Indianapolis, IN | 7/20/2004
Verne, Serge | San Diego, CA | 7/20/2004
Von Foller, Deborah | Salt Lake City, UT | 7/20/2004
Wagemaker, Kristin | Pierson, MI | 7/20/2004
Walker, James | Broomfield, CO | 7/20/2004
Ward, Steven | Indianapolis, IN | 7/20/2004
Warga, Lynn | Pittsburgh, PA | 7/20/2004
Wariner, Earlene | Tucson, AZ | 7/20/2004
Weakly, Tiffon | Las Vegas, NV | 7/20/2004
West, Cherry | Franklin, TN | 7/20/2004
Williams, Kenyetta | Columbus, OH | 7/20/2004
Williams, Michael | Monticello, KY | 7/20/2004
Wilson, Torrey | Fredericksburg, VA | 7/20/2004
Zickefoose, Phillip | Oskaloosa, IA | 7/20/2004
Zintz, Vanda | Vancouver, WA | 7/20/2004
Federal/State Exclusion/Suspension:
Berman, Larry | Sanford, ME | 7/20/2004
Owned/Controlled by Convicted Entities:
Colose Chiropractic | Schenectady, NY | 7/20/2004
I & Y Enterprise, Inc | Hialeah, FL | 7/20/2004
J A B Medical Supplies, Inc | Homestead, FL | 7/20/2004
Just Medical Equipment & Services, Inc | Miami, FL | 7/20/2004
Legcare, Inc | Naples, FL | 7/20/2004
M C M Medical Equipment & Supplies, Inc | Ft Myers, FL | 7/20/2004
Miami Respiratory Care, Inc | Miami, FL | 7/20/2004
Paramount Health Systems, Inc | Chicago, IL | 7/20/2004
Quality Medical Rentals, Inc | Ft Myers, FL | 7/20/2004
Veincare Institute, Inc | Boca Raton, FL | 7/20/2004
Veincare International, Inc | Baco Raton, FL | 7/20/2004
Veincare of Florida/Daytona BCH | Boca Raton, FL | 7/20/2004
Veincare, Inc | Boca Raton, FL | 7/20/2004
Default on Heal Loan:
Caulkins, Robert | Shrewsbury, MA | 7/20/2004
Clifton, Rhea | Dallas, TX | 7/20/2004
Davidson, Blake | Richardson, TX | 7/20/2004
Fitzgerald, Robert | Manlius, NY | 7/20/2004
Gyaami, Opanin | Vacaville, CA | 7/20/2004
Halstead, Kurt | Pacifica, CA | 7/20/2004
Huynh, Lac | Albany, NY | 7/20/2004
Langkop-Wade, Ann | Plano, TX | 7/20/2004
Liebel-Cook, Donna | Fort Worth, TX | 7/20/2004
Manzur, Juan | Indiana Springs, NV | 4/21/2004
Martin, Joseph | Reedley, CA | 6/16/2004
Mayorgo, Gilbert | Houston, TX | 7/20/2004
Pankey, John | Alameda, CA | 7/20/2004
Sasser, Terry | Arlington, TX | 7/20/2004
Smith, Michael | Bethel Park, PA | 7/20/2004
Spencer, Keivon | Cedar Hill, TX | 7/20/2004
Tomlinson, Jody | Hereford, TX | 7/20/2004
Troublefield, Earl | Armarillo, TX | 7/20/2004
Valicenti, Patrick | Wallkill, NY | 7/20/2004

Dated: June 8, 2004.
Kathleen Pettit,
Acting Director, Exclusions Staff, Office of Inspector General.

[FR Doc. 04-16138 Filed 7-15-04; 8:45 am]

BILLING CODE 4150-04-P